GENERAL SERVICES ADMINISTRATION

[Notice-MG-2017-03; Docket No. 2017-0002; Sequence 24]

Office of Federal High-Performance Buildings; Initiation of Periodic Review of High Performance Building Certification Systems

AGENCY: Office of Government-wide Policy (OGP); General Services Administration, (GSA).

ACTION: Notice.

SUMMARY: GSA is initiating its high-performance building certification systems review, required every five years by the Energy Independence and Security Act (EISA) of 2007. GSA will identify a system(s) and certification level that “will be most likely to encourage a comprehensive and environmentally sound approach” to the certification of high-performance Federal buildings.

DATES: December 13, 2017.

FOR FURTHER INFORMATION CONTACT: Mr. Patrick R. Dale, Office of Federal High-Performance Buildings, Management and Program Analyst, 1800 F Street NW, Washington, DC, 20405, telephone 202-999-9607, or via email, at patrick.dale@gsa.gov.

SUPPLEMENTARY INFORMATION: In this review cycle, GSA will be directly contacting representatives of systems that have passed GSA's screening criteria, described below, to request completion of a survey designed to provide GSA with detailed information about the identified system, in order to support its data collection process.

Systems deemed to meet all of the criteria will be evaluated in detail. GSA's screening criteria follow:

1. The certification system is currently available for use in the U.S. commercial buildings market and is not limited to one climate zone or geographic region.

2. The certification system addresses buildings (rather than individual products) with multiple performance and sustainable design attributes identified in EISA, including (but not limited to) energy, water, natural resources and environmental quality.

3. The certification system is validated by an independent, third-party assessor.

4. The certification system incorporates (where feasible), measurable and/or calculated metrics to assess building performance as opposed to evidence of intent.

GSA will request input from representatives of certification systems meeting the above screening criteria, to better inform its recommendation to the Secretary of Energy on what certification system(s) best meet(s) the requirements described in Section 436 of EISA.

GSA will provide the findings from its evaluation and set of recommendations to the Secretary of Energy who, in consultation with the Department of Defense and GSA, may identify the system(s) to recommend for use across the Federal Government.

Additional information can be found online at: http://www.gsa.gov/gbcertificationreview

Dated: December 6, 2017.
Kevin Kampschroer,
Director, Office of Federal High-Performance Green Buildings, General Services Administration.

[FR Doc. 2017-26888 Filed 12-12-17; 8:45 am]

BILLING CODE 6820-14-P